ENVIRONMENTAL PROTECTION AGENCY

[EPA-HQ-OPPT-2014-0381; FRL-9911-22]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from May 23, 2013 to September 30, 2013.

DATES: Comments identified by the specific PMN number or TME number, must be received on or before August 6, 2014.

ADDRESSES: Submit your comments, identified by docket identification (ID) number EPA-HQ-OPPT-2014-0381, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This document provides receipt and status reports, which cover the period from May 23, 2013 to September 30, 2013, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—249 PMNs Received From 5/23/13 to 9/30/13
Case No. | Received date | Projected notice end date | Manufacturer/ Importer | Use | Chemical
P-13-0467 | 05/22/2013 | 08/20/2013 | CBI | (G) Curing Agent For Thermoset Resins | (G) Substituted Polysiloxane.
P-13-0468 | 05/23/2013 | 08/21/2013 | Henkel Corporation | (S) Site Limited Chemical Intermediate To Cureable Monomer | (S) Oxirane,[(1-Propenyloxy)Methyl]-(9ci).
P-13-0494 | 05/30/2013 | 08/28/2013 | CBI | (G) Cleaning Fluid | (S) 1,3-Dioxolane-4-Methanol, 2-methyl-2-(2-Methylpropyl)-.
P-13-0495 | 05/30/2013 | 08/28/2013 | Wacker Chemicals Corporation | (G) The Substance Is A Filler Used In Fire Resistant Silicone Rubber Blends | (G) Metal Hydroxide, Treated With Alkenyl Alkoxy Silane.
P-13-0496 | 05/31/2013 | 08/29/2013 | CBI | (G) Additive For Paper | (G) Amophoteric Polyacrylamine.
P-13-0497 | 05/31/2013 | 08/29/2013 | Henkel Corporation | (S) A Polymerizable Component Of Adhesive And Sealant Formulations | (S) 2-Propenoic Acid, Butyl Ester, Homopolymer, [(1-Oxo-2-Propen-1-Yl)Oxy]-Terminated.
P-13-0498 | 06/05/2013 | 09/03/2013 | Henkel Corporation | (S) Hot melt Adhesives Used In Panel Lamination And Other Assemblies | (S) Hexanedioic Acid, Polymer With 1,4-Butanediol, 1,6-Hexanediol, Alpha-Hydro-Omega-Hydroxypoly[Oxy(Methyl-1,2-Ethanediyl)], 1,1'-Methylenebis[4-Isocyanatobenze] And 2-Oxepanone, 3-9 trimethoxysilyl)-1-Propanethiol-Blocked.
P-13-0514 | 06/04/2013 | 09/02/2013 | Alberdingk Boley Inc | (S) Coatings For Wood And Plastic | (G) Alkyl Carboxylic Acid, Hydroxy-(Hydroxyalkyl) Polymer With Methylenebis[Isocyanatocycloalkane], Ditetrahydroxyalkane, Pentaacrylate-Blocked, Compounds With Alkylmorpholine.
P-13-0515 | 06/04/2013 | 09/02/2013 | Alberdingk Boley Inc | (S) Coatings For Wood And Plastic | (G) Alkyl Carboxylic Acid, Hydroxy-(Hydroxyalkyl), Polymer With Diisocyanatoalkane, Alkyldiamine And Methylenebis[Isocyanatocycloalkane], Tetrahydroxyalkane Triacrylate-Blocked, Compounds With Trialkylamine.
P-13-0516 | 06/04/2013 | 09/02/2013 | Alberdingk Boley Inc | (S) Coatings For Wood And Plastic | (G) Alkanedioic Acid, Polymer With (Haloalkyl)Oxirane, (Hydroxyalkyl)-Alkyldiol, (Alkylethylidene)Bis[Hydroxybenzene] And Oxirane-Alkenoate Polymer With Hydroxy-(Hydroxyalkyl)-Alkanoic Acid And Isocyanato-(Isocyanatoalkyl)-Cycloalkane, Compound With N,N-Dialkylalkylamine.
P-13-0517 | 06/04/2013 | 09/02/2013 | CBI | (G) Processing Aid For Fuel Ethanol Production | (S) 6-Phytase.
P-13-0518 | 06/04/2013 | 09/02/2013 | Alberdingk Boley Inc | (S) Polymer For Plastic Coatings | (G) Alkanedioic Acid, Polymer With Diisocyanatoakane, Dimethyl-Alkyldiol, Hydroxy (Hydroxyalkyl)-Alkane Carboxylic Acid, Methylenebis[Isocyanatoalkane] And Lactone Compound. With Diethy Alkylamine.
P-13-0519 | 06/04/2013 | 09/02/2013 | Alberdingk Boley Inc | (S) Polymer For Plastic Coatings | (G) Unsatuated Fatty Acids, Dimers, Di-Me Esters, Hydrogenated, Polymers With Alkyl Dioic Acid, Diisocyanatocycloalkane, Hydroxy (Hydroxymethyl) Alkylcarboxylic Acid, Methylenebis[Isocyanatocycloalkane], Alkyl Glycol And Lactone Compound. With Trialkylamine.
P-13-0520 | 06/04/2013 | 09/02/2013 | Alberdingk Boley Inc | (S) Coatings For Wood, Metal And Plastic | (G) Aromatic Dicarboxylic Acid, Polymer With Cycloalkanemethanol, Alkanediamine, Alkanedioic Acid, Hydroxy-2-(Hydroxyalkyl)-2-Alkylcarboxylic Acid, Methylenebis[Isocyanatocycloalkane] And (Methylethylidene)Bis)Phenyleneoxy)]Bis[Alkanol], Compound With Dialkylamino Ethanol.
P-13-0521 | 06/04/2013 | 09/02/2013 | Alberdingk Boley Inc | (S) Coatings For Wood, Metal And Plastic | (G) Aromatic Dicarboxylic Acid, Polymer With Alkanediamine, Alkane Dioic Acid, Alkanediol, Hydroxy-2-(Hydroxymethyl)-2-Alkyl Carboxylic Acid, Methylenebis [Isocyanatocycloalkane] And [(Alkylethylidene) Bis(Phenyleneoxy)]Bis[Alkanol], Compound With Dialkylethanamine.
P-13-0522 | 06/04/2013 | 09/02/2013 | Alberdingk Boley Inc | (S) Coatings For Wood And Plastic | (G) Alkanedioic Acid, Polymer With Aminoalkanol, Alkanediol, Alkyl-(Hydroxyalkyl)Alkanediol, 1,X-Alkanediol, Hydroxy-(Hydroxyalkyl)Alkanoic Acid, Methylenebis[Isocyanatocycloalkane] And Alkene Carboxylic Acid, Compound. With Alkylmorpholine.
P-13-0554 | 06/05/2013 | 09/03/2013 | 3M Company | (G) Protective Treatment | (G) Fluorochemical Urethane.
P-13-0555 | 06/05/2013 | 09/03/2013 | DIC International (USA) LLC | (G) Artificial Textile Production | (G) Polycarbonate Type Polyurethane Resin.
P-13-0556 | 06/07/2013 | 09/05/2013 | CBI | (G) Ingredient In Fragrances For Dispersive Use | (G) Cycloalkene, Acetic Acid Alkylester.
P-13-0557 | 06/06/2013 | 09/04/2013 | CBI | (S) Epoxy Curing Agent | (G) Tall Oil Fatty Acid, Compound With Cyclic Amine.
P-13-0558 | 06/07/2013 | 09/05/2013 | CBI | (G) Humidity Barrier | (G) Alkylene Imine Homopolymer, Alkyl Derivatives.
P-13-0559 | 06/10/2013 | 09/08/2013 | Reichhold Inc | (S) Wood Sealer; Concrete Sealer | (G) Amine Salt Of Vegetable Oil, Polymer With Cycloaliphatic Glycol, Hydroxy Substituted Carboxylic Acid, Aliphatic Diisocyanate And Tetra Hydroxy Alkane.
P-13-0560 | 06/10/2013 | 09/08/2013 | Eastman Chemicals Co | (G) Solvent | (G) Aliphatic Ester Of A Modified Carboxylic Acid.
P-13-0563 | 06/10/2013 | 09/08/2013 | The Dow Chemical Company | (G) Chemical Intermediate For Polyurethane Polymer | (G) Polyalkylene Glycol, Alpha Isocyanate, Omega Silane.
P-13-0564 | 06/10/2013 | 09/08/2013 | Henkel Corporation | (S) Site Limited Intermediate To Functionalized Polymers | (S) Benzene, 1,4-Bis(1-Chloro-1-Methylethyl)-, Reaction Products With Polyisobutylene, Diallyl Terminated.
P-13-0566 | 05/30/2013 | 08/28/2013 | CBI | (S) Additive | (S) Urea, N,N ″-1,6-Hexanediylbis[N'-[(1s)-1-Phenylethyl]-.
P-13-0567 | 05/30/2013 | 08/28/2013 | CBI | (G) Additive | (G) Ester Wax.
P-13-0568 | 06/07/2013 | 09/05/2013 | CBI | (G) Down Well Additive | (G) Benzenesulfonic Acid, Dimethyl-, Alkyl Derivatives, Sodium Salt.
P-13-0569 | 05/31/2013 | 08/29/2013 | International Flavors & Fragrances Inc | (S) Fragrance Ingredient For Use In Fragrances For Soaps, Detergents, Cleaners And Other Household Products | (S) 5h-Cyclopenta[H]Quinazoline, 6,6a,7,8,9,9a-Hexahydro-7,7,8,9,9-Pentamethyl-.
P-13-0570 | 05/31/2013 | 08/29/2013 | Gharda Chemicals Limited | (G) Manufacture Of Mechanical Parts, Insulation, Valves, Heat Exchange Parts, Oil Drilling, Aircraft Parts | (G) Poly(Oxy-1,4-Phenylenecarbonyl-1,4-Phenylenecarbonyl-1,4-Phenylene.
P-13-0571 | 05/31/2013 | 08/29/2013 | Gharda Chemicals Limited | Manufacture Of Mechanical Parts, Insulation, Valves, Heat Exchange Parts, Oil Drilling, Aircraft Parts | (G) Poly(Oxy-1,4-Phenylenecarbonyl-1,4-Phenylenecarbonyl-1,4-Phenylene.
P-13-0572 | 05/31/2013 | 08/29/2013 | Gharda Chemicals Limited | (G) Manufacture Of Mechanical Parts, Insulation, Valves, Heat Exchange Parts, Oil Drilling, Aircraft Parts | (G) Poly (2,5-Benzimidazole), Polybenzimidazole.
P-13-0573 | 06/12/2013 | 09/10/2013 | Technolgies Zyvex | (G) Coating Attached To Carbon Nanotubes | (G) Polymer Of Terepthalic Acid And Ethyl Benzene With Mutiwalled Carbon Nanotube.
P-13-0574 | 05/31/2013 | 08/29/2013 | Canon USA Inc | (G) Component For Toner Use | (G) Diester.
P-13-0575 | 06/13/2013 | 09/11/2013 | CBI | (S) Flame Retardant Additive For Use In Plastics | (G) Phosphonic Acid.
P-13-0594 | 06/14/2013 | 09/12/2013 | CBI | (G) Surfactant | (G) Alkyl Oxirane, Polymer With Alkyl Oxirane Sulfate Alkylethers, Alkali Salts.
P-13-0595 | 06/14/2013 | 09/12/2013 | CBI | (G) Surfactant | (G) Alkyl Oxirane, Polymer With Alkyl Oxirane Sulfate Alkylethers, Alkali Salts.
P-13-0615 | 06/02/2013 | 08/31/2013 | CBI | (G) Renewable Chemical Intermediate | (G) Alkyl Alkanoate.
P-13-0616 | 05/30/2013 | 08/28/2013 | CBI | (G) Cleaning Fluid | (S) 1,3-Dioxolane-4-Methanol, 2-methyl-2-(2-Methylpropyl)-.
P-13-0617 | 06/06/2013 | 09/04/2013 | CBI | (G) Adhesive | (G) Aromatic dicarboxylic Acid Polymer With Alkanediol, Alkyl Alkyl-2-Alkenoate, 1,4-Dialkyl Aromatic dicarboxylate, Alkanedioc Acid, Alkanedioc Acid. Alkanediol, Alpha-Hydro-Omega-Hydroxypoly[Oxy(Alkyll-Alkanediyl)], Hydroxyalkyl 2-Alkyl-2-Alkenoate, Aromatic Diisocyanate, Alkyl 2-Alkyl-2-Alkenoate And 2-Alkyl-2-Alkenoic Acid.
P-13-0618 | 06/06/2013 | 09/04/2013 | CBI | (G) Adhesive | (G) Alkanedioic Acid, Polymer With Alkyl 2-Alkyl-2-Alkenoate, Alkanedioic Acid, Alkanediol, Alpha-Hydro-Omega-Hydroxypoly[Oxy(Alkyl-1 2-Alkanediyl)], Hydroxyalkyl 2-Alkyl-2-Alkenoate, Aromatic Diisocyanate, Alkyl 2-Alkyl-2-Alkenoate And 2-Alkyl-2-Alkenoic Acid.
P-13-0619 | 06/06/2013 | 09/04/2013 | CBI | (G) Adhesive | (G) Alkanedioic Acid, Polymer With Alkyl Alkyl-Alkenoate, Alkanedioic Acid, Alkanediol, Alpha-Hydro-Omega-Hydroxypoly[Oxy(Alkyl-1,2-Alkanediyl)], Aromatic Diisocyanate, Alkyl Alkyl-Alkeneoate And Alkyl-Alkenoic Acid.
P-13-0620 | 06/13/2013 | 09/11/2013 | CBI | (G) Industrial Liquid Coatings | (G) Polymer Of Aliphatic Acids, Aliphatic Diols, Aliphatic Polyols, Oligomeric Silsesquioxane, And Aromatic Acids.
P-13-0621 | 06/13/2013 | 09/11/2013 | CBI | (G) Component Of Foam | (G) Fatty Acid Polymer With Aliphatic Alcohol And Aromatic Diacid.
P-13-0622 | 06/17/2013 | 09/15/2013 | Gelest | (S) Polymerized Into A Rubber Formulation; Research | (S) 1-Propanamine, 3-(Diethoxymethylsilyl)-N,N-Dimethyl-.
P-13-0624 | 06/17/2013 | 09/15/2013 | Halliburton Energy Services Inc | (S) Filter Cake Breaker For Oil/Gas Wells | (S) Ethanol, 2,2'-Oxybis-,1,1′-Diformate.
P-13-0625 | 06/07/2013 | 09/05/2013 | CBI | (G) Reaction Modifier For Molding Compounds | (G) Metal Amine Salt.
P-13-0626 | 06/19/2013 | 09/17/2013 | CBI | (G) Dispersing Agent | (G) Alkenylic Acid, Alkyl Ester, Polymer With Alkylaminoalkyl Alkenamide And Alkenyl Benzene, Ester With Alkyl Ethylene Glycol, Compound. With Chloro-Chloroalkyl Benzene.
P-13-0628 | 06/19/2013 | 09/17/2013 | CBI | (G) Pigment Dispersant | (G) Caprolactam, Polymer With Caprolactone, Hydrogenphosphate, Phenylalkyl, Ester With Alkyl Polyethylene Glycol.
P-13-0629 | 05/30/2013 | 08/28/2013 | Estron Chemical | (G) Industrial non-VOC Ultra Violet (UV) cure Coatings | (S) 2-Propenoic Acid, 2-Methyl-,Methyl Ester, Polymer With Butyl 2-Propenoate, Ethenylbenzene And 2-Oxiranylmethyl 2-Methyl-2-Propenoate, 2-Propenoate, 1,1-Dimethylpropyl 2-Ethylhexaneperoxoate-Initiated*.
P-13-0630 | 06/20/2013 | 09/18/2013 | CBI | (S) A Polymerizable Component In Novel Adhesive/Sealant Formulations | (G) Silyl Modified Polymer.
P-13-0633 | 06/24/2013 | 09/22/2013 | CBI | (G) Polyurethane Resin For Coating Agent | (G) Siloxanes And Silicones, Di-Alkyl, 3-(2-Substituted) Alkyl Group-Terminated, Polymers With 1,4-Alkanediol, Alkyl Diisocyanate, Di-Alkyl Carbonate, 2-Substituted Heteromonocycle, 1,6-Alkanediol, Hydrazine, 3-Substituted-2-(Substituted)-2-Alkylpropanoic Acid And Trialkyl Carbomonocycle Diisocyanate, Compounds. With Trialkylamine.
P-13-0646 | 06/24/2013 | 09/22/2013 | CBI | (G) Tile Treatment | (G) Fluoroalkyl Acrylate Copolymer.
P-13-0647 | 06/24/2013 | 09/22/2013 | CBI | (G) Textile Treatment | (G) Fluoroalkyl Acrylate Copolymer.
P-13-0648 | 06/24/2013 | 09/22/2013 | CBI | (G) Tile Treatment | (G) Fluoroalkyl Acrylate Copolymer.
P-13-0649 | 06/24/2013 | 09/22/2013 | CBI | (G) Textile Treatment | (G) Fluoroalkyl Acrylate Copolymer.
P-13-0650 | 06/24/2013 | 09/22/2013 | CBI | (G) Open, Non-Dispersive | (G) Epoxy-Amine Adduct, Neutralized.
P-13-0651 | 06/25/2013 | 09/23/2013 | CBI | (S) Water Borne Industrial Coatings Like Metal Coatings; (S) Coatings For Wood | (G) Hexamethylenediisocyanate Homopolymer, Alkoxy-Terminated.
P-13-0652 | 06/25/2013 | 09/23/2013 | Coatex Inc | (G) Reactant Which Is Part Of A Polymer, Used As A Coating Additive (Destructive Use) | (G) Cyclohexanol, 4-(C10-14-Branched Alkyl) Derivs.
P-13-0653 | 06/25/2013 | 09/23/2013 | CBI | (G) Component In Foam Insulation | (G) Fatty Acid Polymer With Aliphatic Alcohol And Aromatic Diacid.
P-13-0654 | 06/26/2013 | 09/24/2013 | Hampford Research Inc | (G) UV Curable Coating | (G) Polyether Urethane Acrylate Oligomer.
P-13-0655 | 06/27/2013 | 09/25/2013 | Henkel Corporation | (S) Adhesives Used For Panel Bonding And Other Adhesive Assembly applications | (G) Acrylic Modified Polyether-Polyester Prepolymer.
P-13-0656 | 06/27/2013 | 09/25/2013 | CBI | (G) Process Aid For Composite Manufacturing. | (G) Phosphoric Acid, Mixed Alkyl Alcohol Esters, Trialkanol Ammonium Salts.
P-13-0657 | 06/26/2013 | 09/24/2013 | Firmenich Inc | (S) Aroma For Use In Fragrance Mixtures, Which In Turn Are Used In Perfumes | (S) 2,6-Octandienal, 3,6,7-Trimethyl-.
P-13-0658 | 06/28/2013 | 09/26/2013 | CBI | (G) Metallic Phosphate For Battery Electrodes | (G) Lithium Metal Phosphate.
P-13-0659 | 06/28/2013 | 09/26/2013 | Huntsman Corporation | (S) Foam Stabilizer For Detergents In Household And Industrial Multi-Surface Cleaners; (S) Foam Stabilizer For Personal Care Products | (S) Amides, Coco, N-(Hydroxyethyl)-N-Methyl.
P-13-0667 | 06/28/2013 | 09/26/2013 | Henkel Corporation | (S) A Polymerizable Component Of Adhesive And Sealnt Formulations | (S) 2-Propenoic Acid, Butyl Ester, Polymer With Ethyl 2-Propenoate And 2-Methoxyethylpropenoate, Reaction Products With Acrylic Acid.
P-13-0668 | 06/28/2013 | 09/26/2013 | CBI | (G) Additive, Open, Non-Dispersive | (S) Siloxanes And Silicones, Di-Me, Stearyl Group-Terminated.
P-13-0670 | 07/01/2013 | 09/29/2013 | CBI | (G) Antioxidant | (G) Alkyl-[4-(Carbomonocycle-substituted)Carbomonocycle]-(Dialkyl-Hydroxycarbomonocycle)Alkane Derivative.
P-13-0671 | 07/01/2013 | 09/29/2013 | CBI | (G) Antioxidant; (G) Additive For Rubber Goods To Improve Properties | (G) Alkyl-[4-(Carbomonocycle-substituted)Carbomonocycle]-(Dialkyl-Hydroxycarbomonocycle)Alkane Derivative.
P-13-0672 | 07/01/2013 | 09/29/2013 | Shin Etsu Silicones Of America | (S) Law Material Of Amino-Modefied Silicone | (S) Siloxanes And Silicones, 3-[(2-Aminoethyl)Amino]Propyl Methyl, Hydroxy-Terminated.
P-13-0673 | 07/01/2013 | 09/29/2013 | CBI | (S) Electrolyte For Energy Applications | (S) Pyrrolidinium, 1-Butyl-1-Methyl-, Tetrakis(Cyano-Kc)Borate(1-) (1:1).
P-13-0674 | 07/02/2013 | 09/30/2013 | CBI | (G) Open, Non-Dispersive | (G) Polycarbamoylsulfonate.
P-13-0676 | 07/03/2013 | 10/01/2013 | CBI | (G) Polyurethane Resin For Coating Agent | (G) 1,3-Dioxolan-2-One, Polymer With 5-Substituted-1,3,3-Trialkylmonocarbocyclemethanamine, 1,4-Alkanediol, 1,2-Alkanediol, 1,1′-Alkylenebis[4-Substituted monocarbocycle] And 2-Alkyl-1,3-Alkanediol.
P-13-0677 | 07/03/2013 | 10/01/2013 | CBI | (G) Polyurethane Resin For Coating Agent | (G) 1,3-Dioxolan-2-One, Polymer With 1,4-Alkanediol, 1,2-Alkanediol, 1,1′-Alkylenebis[4-Substituted monocarbocycle] And 2-Alkyl-1,3-Alkanediol.
P-13-0678 | 07/02/2013 | 09/30/2013 | CBI | (G) Water And Oil Repellent For Plastic And Inorganic Substrates | (G) Fluoroalkyl Methacrylate Copolymer.
P-13-0679 | 07/02/2013 | 09/30/2013 | CBI | (G) Paper Treatment | (G) Fluoroalkyl Acrylate Copolymer.
P-13-0680 | 07/03/2013 | 10/01/2013 | CBI | (G) Renewable Chemical Intermediate | (G) Alkyl Alkenoate.
P-13-0681 | 07/03/2013 | 10/01/2013 | CBI | (G) For Use In External Can Coatings | (G) Phosphate Ester.
P-13-0687 | 07/08/2013 | 10/06/2013 | Compass Chemical International LLC | (G) Oil And Gas Production; Industrial Water Treatment | (G) Aminophosphonate Salt.
P-13-0688 | 07/10/2013 | 10/08/2013 | Henkel Corporation | (S) Isolated Intermediate To Function Polyisobutylene Polymers | (S) Benzene, 1,4-Bis(1-Chloro-1-Methylethyl) -, Reaction Products With Polyisobutylene, Bis(3-Hydroxypropyl)-Terminated.
P-13-0689 | 07/10/2013 | 10/08/2013 | CBI | (G) Material For Fiber, Monofilament, Sheet, Film; Molding Material For Agriculture, Food Package, Const | (G) Alkanedioic Acid, Polymer With Butanedioic Acid, Alkanediol And 2-Substituted Alkanedioic Acid.
P-13-0690 | 07/11/2013 | 10/09/2013 | JJI Technologies, LLC | (S) Flame Retardant For Industrial Plastics | (G) Aluminum Phosphate.
P-13-0706 | 07/11/2013 | 10/09/2013 | Nano-C, Inc | (S) Additive For Fibers In Fabrics; (S) Additive For Fibers In Structural And Electrical uses; Additive For Transparency And Conductivity Additive In Lubricants And Grease; Additive To Improve The Strength And Durability Of Materials; Catalyst Support In Fuel Cells; Coating Additive To Improve Corrosion Resistance Use As A Nanoporous Network; (S) Use As A Semi-Conductor, Conductive, Or Resistive Element; Use As An Electromechanical Switch, Use In Film Laminates To Improve Conductivity, Use In Film Laminates To Improve Structural, Electrical, Or Electrochemical Properties; (S) Use With Materials To Improve Mechanical Properties Or Electrical Conductivities(S) Additive For Fibers In Fabrics; (S) Additive For Fibers In Structural And Electrical uses; (S) Additive For Transparency And Conductivity; (S) Additive In Lubricants And Grease; (S) Additive To Improve material Strength; (S) Catalyst Support In Fuel Cells; (S) Coating Additive for Improve Corrosion Resistance; (S) Use As A Nanoporous Network; (S) Use As A Semi-Conductor, Conductive, Or Resistive; (S) Use As An Electromechanical Switch; (S) Use In Film Laminates To Improve Structural, Electrical, Or Electrochemical Properties Of Composite; (S) Use In Separation Of Chemicals; (S) Use With Materials for Mechanical Properties | (G) Single-Walled Carbon Nanotubes.
P-13-0707 | 07/11/2013 | 10/09/2013 | Nano-C, Inc | (S) Additive For Fibers In Fabrics; (S) Additive For Fibers In Structural And Electrical uses; (S) Additive For Transparency And Conductivity; (S) Additive In Lubricants And Grease; (S) Additive To Improve material Strength; (S) Catalyst Support In Fuel Cells; (S) Coating Additive for Improve Corrosion Resistance; (S) Use As A Nanoporous Network; (S) Use As A Semi-Conductor, Conductive, Or Resistive; (S) Use As An Electromechanical Switch; (S) Use In Film Laminates To Improve Structural, Electrical, Or Electrochemical Properties Of Composite; (S) Use In Separation Of Chemicals; (S) Use With Materials for Mechanical Properties | (G) Single-Walled Carbon Nanotubes.
P-13-0708 | 07/12/2013 | 10/10/2013 | CBI | (G) Lubricant Additive | (G) Zinc Dialkyldithiocarbamate.
P-13-0709 | 07/12/2013 | 10/10/2013 | CBI | (G) Lubricant Additive | (G) Zinc Dialkyldithiocarbamate.
P-13-0710 | 07/12/2013 | 10/10/2013 | CBI | (G) Lubricant Additive | (G) Zinc Dialkyldithiocarbamate.
P-13-0711 | 07/12/2013 | 10/10/2013 | CBI | (G) Lubricant Additive | (G) Zinc Dialkyldithiocarbamate.
P-13-0712 | 07/12/2013 | 10/10/2013 | CBI | (G) Lubricant Additive | (G) Zinc Dialkyldithiocarbamate.
P-13-0713 | 07/12/2013 | 10/10/2013 | CBI | (G) Lubricant Additive | (G) Zinc Dialkyldithiocarbamate.
P-13-0714 | 07/15/2013 | 10/13/2013 | CBI | (G) Destructive And Contained Use | (G) Carbopolycycle Bis(Amine Monocycle).
P-13-0715 | 07/11/2013 | 10/09/2013 | CBI | (S) Additive For Fibers In Fabrics; (S) Additive For Fibers In Structural And Electrical uses; (S) Additive For Transparency And Conductivity; (S) Additive In Lubricants And Grease; (S) Additive To Improve material Strength; (S) Catalyst Support In Fuel Cells; (S) Coating Additive for Improve Corrosion Resistance; (S) Use As A Nanoporous Network; (S) Use As A Semi-Conductor, Conductive, Or Resistive; (S) Use As An Electromechanical Switch; (S) Use In Film Laminates To Improve Structural, Electrical, Or Electrochemical Properties Of Composite; (S) Use In Separation Of Chemicals; (S) Use With Materials for Mechanical Properties | (G) Single-Walled Carbon Nanotubes.
P-13-0716 | 07/11/2013 | 10/09/2013 | CBI | (S) Additive For Fibers In Fabrics; (S) Additive For Fibers In Structural And Electrical uses; (S) Additive For Transparency And Conductivity; (S) Additive In Lubricants And Grease; (S) Additive To Improve material Strength; (S) Catalyst Support In Fuel Cells; (S) Coating Additive for Improve Corrosion Resistance; (S) Use As A Nanoporous Network; (S) Use As A Semi-Conductor, Conductive, Or Resistive; (S) Use As An Electromechanical Switch; (S) Use In Film Laminates To Improve Structural, Electrical, Or Electrochemical Properties Of Composite; (S) Use In Separation Of Chemicals; (S) Use With Materials for Mechanical Properties | (G) Single-Walled Carbon Nanotubes.
P-13-0717 | 07/15/2013 | 10/13/2013 | CBI | (G) Destructive And Contained Use | (G) Carbopolycycle Bis(Substituted Amine Monocycle.
P-13-0718 | 07/11/2013 | 10/09/2013 | Nano-C, Inc | Additive For Fibers In Fabrics; (S) Additive For Fibers In Structural And Electrical uses; Additive For Transparency And Conductivity Additive In Lubricants And Grease; Additive To Improve The Strength And Durability Of Materials; Catalyst Support In Fuel Cells; Coating Additive To Improve Corrosion Resistance Use As A Nanoporous Network; (S) Use As A Semi-Conductor, Conductive, Or Resistive Element; Use As An Electromechanical Switch, Use In Film Laminates To Improve Conductivity, Use In Film Laminates To Improve Structural, Electrical, Or Electrochemical Properties | (G) Single-Walled Carbon Nanotubes.
P-13-0719 | 07/11/2013 | 10/09/2013 | Nano-C, Inc |  | (G) Single-Walled Carbon Nanotubes.
P-13-0720 | 07/11/2013 | 10/09/2013 | Nano-C, Inc | (S) Additive For Fibers In Fabrics; (S) Additive For Fibers In Structural And Electrical Applications; (S) Additive For Transparency And Conductivity In Electronic Devices; (S) Additive In Lubricants And Grease To Improve Wear Resistance; (S) Additive To Improve The Strength And Durability Of Materials And Batteries; (S) Catalyst Support For Use In Fuel Cells; (S) Coating Additive To Improve Corrosion Resistance Of Metals; (S) Use As A Nanoporous Network In Gas Diffusion Layers; (S) Use As A Semi-Conductor, Conductive, Or Resistive Element In Electronic Circuitry And Devices; (S) Use As An Electromechanical Switch In Electronic Circuitry And Devices; (S) Use In Film Laminates To Improve Conductivity In Batteries, Capacitors, And Fuel Cells; (S) Use In Film Laminates To Improve Structural, Electrical, Or Electrochemical Properties Of Composite; (S) Use In Separation Of Chemicals; (S) Use With Materials To Improve Mechanical Properties Or Electrical Conductivities | (G) Single-Walled Carbon Nanotubes.
P-13-0721 | 07/11/2013 | 10/09/2013 | Nano-C, Inc | (S) Additive For Fibers In Fabrics; (S) Additive For Fibers In Structural And Electrical Applications; (S) Additive For Transparency And Conductivity In Electronic Devices; (S) Additive In Lubricants And Grease To Improve Wear Resistance; (S) Additive To Improve The Strength And Durability Of Materials And Batteries; (S) Catalyst Support For Use In Fuel Cells; (S) Coating Additive To Improve Corrosion Resistance Of Metals; (S) Use As A Nanoporous Network In Gas Diffusion Layers; (S) Use As A Semi-Conductor, Conductive, Or Resistive Element In Electronic Circuitry And Devices; (S) Use As An Electromechanical Switch In Electronic Circuitry And Devices; (S) Use In Film Laminates To Improve Conductivity In Batteries, Capacitors, And Fuel Cells; (S) Use In Film Laminates To Improve Structural, Electrical, Or Electrochemical Properties Of Composite; (S) Use In Separation Of Chemicals; (S) Use With Materials To Improve Mechanical Properties Or Electrical Conductivities | (G) Single-Walled Carbon Nanotubes.
P-13-0722 | 07/12/2013 | 10/10/2013 | CBI | (G) Polymer Additive | (G) Quaternary Alkyl Ammonium Sulfonimide.
P-13-0724 | 07/17/2013 | 10/15/2013 | CBI | (G) Coating Component | (G) Polyurethane Prepolymer.
P-13-0725 | 07/16/2013 | 10/14/2013 | Allnex USA Inc | (S) Coating Resin For Substrate Protection And Aesthetics | (G) Alkanedioc Acid, Polymer With Substituted Oxirane Polymer With Substituted Carbomonocyle, Di-Substituted Alkane, Substituted Alkanoic Acid, Substituted Cycloalkane And Substituted Alkoxylated Glycerol.
P-13-0726 | 07/16/2013 | 10/14/2013 | Genagain Technologies, LLC | (S) Additive To Diesel Fuel | (S) Waste Plastics, Pyrolyzed, Depolymd., Acid-Free, C6-21 Fraction. Definition: A Complex Combination Of Hydrocarbons Obtained By The Distillation Of A Waste Plastics Feed Under Vacuum Usingwiped-Film Evaporation. Is Consists Predominately Of C6 To C21 Branched And Linear Hydrocarbons, And Boils In The range Of 50 Â°C To 320 Â°C (122 Â°F To 608 Â°F).
P-13-0747 | 07/18/2013 | 10/16/2013 | CBI | (G) Antioxidant/Stabilizer For Plastic | (G) Mixed Alkyl Phenyl Phosphite.
P-13-0748 | 07/18/2013 | 10/16/2013 | Zyvex Technolgies | (G) Coating Attached To Carbon Nanotubes | (G) Polymer Of Terepthalic Acid And Ethyl Benzene With Mutiwalled Carbon Nanotube.
P-13-0751 | 07/18/2013 | 10/16/2013 | CBI | (G) Polymeric Colorant | (G) Polyether Substituted Polymeric Colorant.
P-13-0752 | 07/19/2013 | 10/17/2013 | Allnex USA Inc | (S) Isolated Intermediate For Manufacture Of A Coating Resin | (G) Substituted Polyethylene Glycol Monomethy Ether.
P-13-0754 | 07/23/2013 | 10/21/2013 | CBI | (S) Intermediate Reaction Product | (G) Alkylphenol.
P-13-0766 | 07/24/2013 | 10/22/2013 | CBI | (G) Hydrocarbon Feedstock | (G) Hydrocarbon Feedstock.
P-13-0767 | 07/25/2013 | 10/23/2013 | The Dow Chemical Company | (G) Chemical Intermediate | (G) Substituted Picolinic Acid.
P-13-0768 | 07/25/2013 | 10/23/2013 | CBI | (G) The new substance is intended for use as a binder for industrial waterborne coating applications | (G) Phenol, (Alkylidene)Bis-, Polymer With (Chloroalkyl)Oxirane, Alkenoate, Bis(Hydroxyalkyl)Alkanoic Acid, Hydroxyalkylacrylate, Alkyl Polyalkyleneglycol, Benzenedicarboxylic Acid, Polymer With Alkanedioic Acid And Alkanediol, Alkanediol, Alkane, Diisocyanato-, Homopolymer, Isocyanatoalkyltrialkylcycloalkyl Isocyanate And Alkylene Diisocyanate.
P-13-0769 | 07/25/2013 | 10/23/2013 | CBI | (G) Printing Inks | (G) Calcium Salt Of Aldehyde Resins.
P-13-0770 | 07/26/2013 | 10/24/2013 | CBI | (G) Adhesive For Electrical Industry Use | (G) Latex Polymer.
P-13-0771 | 07/26/2013 | 10/24/2013 | CBI | (G) Colorant For Polyolefins | (G) Anthraquinone Polyamide.
P-13-0772 | 07/31/2013 | 10/29/2013 | Huntsman | (G) Curing Agent | (G) Fatty Acids, C16-18 And C18-Unsatuated, Polymers With Ethyleneamine, Alkoxylated Derivs.
P-13-0773 | 07/31/2013 | 10/29/2013 | CBI | (S) Herbicide Intermediate | (S) 4-Pyrimidianamine, 2,5 Dimethoxy.
P-13-0774 | 07/31/2013 | 10/29/2013 | CBI | (S) Pour Point Depressant For Use In Oil. Dispersant For Use In Oil | (G) Acrylic Polymer.
P-13-0775 | 07/31/2013 | 10/29/2013 | CBI | (G) Used In The Manufacture Of An Article | (G) Polyamic Acid.
P-13-0779 | 07/31/2013 | 10/29/2013 | CBI | (G) Assembly Adhesive | (G) Isocyanic Acid, Polymethylenepolyphenylene Ester, Polymer With Substituted Bisphenol And Substituted Diepoxide.
P-13-0780 | 08/01/2013 | 10/30/2013 | CBI | (G) Oil And Water Repellent And Release Agent | (G) Fluorinated Acrylic Copolymer.
P-13-0781 | 08/01/2013 | 10/30/2013 | Henkel Corporation | (S) Site Limited Intermediate To Cureable Monomers | (S) 4-Phenoxybutyl Bromide.
P-13-0782 | 08/01/2013 | 10/30/2013 | CBI | (G) Reactive Prepolymer For Polyurethane Dispersions, Adhesives, Sealants And Elastomers | (G) Polyester Polyol.
P-13-0786 | 08/01/2013 | 10/30/2013 | CBI | (S) Pigment For Automotive Coatings To Be Used In Automotive Oem And Refinish | (G) Substituted Alkylsilanes, Reaction Products With Aluminum, Metal Oxide, Silica And Tin Oxide (Sno2).
P-13-0787 | 08/01/2013 | 10/30/2013 | Syngenta Crop Protection LLC | (G) Imported And Site Limited Raw Material, Used In The Manufacture Of An EPA FIFRA Registerred Pesticid | (S) Benzenamine, 2-Ethyl-N-[(1s)-2-Methoxy-1-Methylethyl]-6-Methyl-.
P-13-0788 | 08/02/2013 | 10/31/2013 | Allnex USA Inc | (G) Resin For Inks | (G) Substituted Alkanediol, Polymer With Heteromonocycles, Substituted Carbomonocycle Alkenoate, Reaction Products With Dialkylamine.
P-13-0789 | 08/02/2013 | 10/31/2013 | Allnex USA Inc | (G) Resin For Inks | (G) Substituted Alkanediol, Polymer With Heteromonocycles, Substituted Carbomonocycle Alkenoate, Reaction Products With Dialkylamine.
P-13-0793 | 08/02/2013 | 10/31/2013 | CBI | (S) Thin Film For Electronic Device Applications | (G) Functionalized Carbon Nanotubes.
P-13-0794 | 08/02/2013 | 10/31/2013 | CBI | (G) Additive, Open, Non-Dispersive Use | (G) Poly(Alkylmethacrylate-Co-Dimethylaminoethylmethacrylate).
P-13-0796 | 08/05/2013 | 11/03/2013 | CBI | (G) Additive For Polymer Manufacturing | (G) Dicarbomonocycle-Substituted Carbomono cycledicarboxamide.
P-13-0797 | 08/05/2013 | 11/03/2013 | CBI | (G) Additive For Polymer Manufacturing | (G) Dicarbomonocycle-Substituted Carbomono cycledicarboxamide.
P-13-0798 | 08/05/2013 | 11/03/2013 | CBI | (G) Additive For Polymer Manufacturing | (G) Dicarboheterocycle-Substituted Carbomono cycledicarboxamide.
P-13-0799 | 08/05/2013 | 11/03/2013 | CBI | (G) Additive For Polymer Manufacturing | (G) Dicarbomonocycle-Substituted Carbomono cycledicarboxamide.
P-13-0800 | 08/05/2013 | 11/03/2013 | CBI | (G) Additive For Polymer Manufacturing | (G) Tricarbomonocycle-Substituted Carbomono cycletricarboxamide.
P-13-0803 | 08/04/2013 | 11/02/2013 | CBI | (G) Assembly Adhesive | (G),(G) Polymer With Aromatic Diacids, Alkylene Diacid, Substituted Alkylene Diol, Unsubstituted Alkylene Diol And Polymethylenepolyphenylene Isocyanate Isocyanic Acid, Polymethylenepolyphenylene Ester, Polymer With Substituted Bisphenol And Substituted Diepoxide Isocyanic Acid, Polymethylenepolyphenylene Ester, Polymer With Unsubstituted Alkylene Diol, Substituted Alkylene Diol And Cyclic Alkylene Ester.
P-13-0804 | 08/05/2013 | 11/03/2013 | Kaneka North America LLC | (G) Surface Active Agent | (S) A Cyclic Oligopeptide Produced By The Fermentation Of Carbon And Nitrogen Sources (Such As Soybean Meal, Glucose,Maltose) Using Bacillus Subtillis. The Product Is The Sodium Salt Of The Polypeptide. The Individual Residues Include:L-Glutamic Acid, D-Leucine, L-Leucine, L-Valine, L-Aspartic Acid, L-Isoleucine And .Beta.-Hydroxy C12-17 Branchedalkanoic Acids.
P-13-0805 | 08/06/2013 | 11/04/2013 | CBI | (G) Used as a Receptive Coating In Ink-Jet Printing | (G) Polu(Urethane Urea).
P-13-0806 | 08/07/2013 | 11/05/2013 | Mane USA | (S) Refreshing Agent in Cosmetic Products | (S) Butanedioic Acid, 1-[ (1r, 2s, 5r)-5-Methyl-2-(1-Methylethyl) Cyclohexyl ] Ester.
P-13-0807 | 08/06/2013 | 11/04/2013 | CBI | (G) Lubricant Additive | (G) Calcium Alkyl Salicylate.
P-13-0808 | 08/06/2013 | 11/04/2013 | Hampford Research, Inc | (G) UV Curable Coating | (G) Polyether Urethane Acrylate Oligomer.
P-13-0809 | 08/06/2013 | 11/04/2013 | CBI | (S) Acrylic Resin Used In UV Curable Inks And Coatings | (G) Melamine Acrylate.
P-13-0810 | 08/07/2013 | 11/05/2013 | CBI | (G) Inhibitor For Oil Field Applications | (G) Cycloalkylamino Oleylalkyl Alkylamide Acid Salt.
P-13-0811 | 08/07/2013 | 11/05/2013 | CBI | (G) Inhibitor For Oil Field Applications | (G) Cycloalkylamino Oleylalkyl Alkylamide Acid Salt.
P-13-0812 | 08/07/2013 | 11/05/2013 | CBI | (G) Inhibitor For Oil Field Applications | (G) Cycloalkylamino Oleylalkyl Alkylamide Acid Salt.
P-13-0813 | 08/07/2013 | 11/05/2013 | CBI | (G) Inhibitor For Oil Field Applications | (G) Cycloalkylamino Oleylalkyl Alkylamide Acid Salt.
P-13-0814 | 08/07/2013 | 11/05/2013 | CBI | (G) Inhibitor For Oil Field Applications | (G) Cycloalkylamino Oleylalkyl Alkylamide Acid Salt.
P-13-0815 | 08/07/2013 | 11/05/2013 | CBI | (G) Inhibitor For Oil Field Applications | (G) Cycloalkylamino Oleylalkyl Alkylamide Acid Salt.
P-13-0816 | 08/07/2013 | 11/05/2013 | CBI | (G) Inhibitor For Oil Field Applications | (G) Cycloalkylamino Cocoalkyl Alkylamide Acid Salt.
P-13-0817 | 08/07/2013 | 11/05/2013 | CBI | (G) Inhibitor For Oil Field Applications | (G) Cycloalkylamino Cocoalkyl Alkylamide Acid Salt.
P-13-0818 | 08/07/2013 | 11/05/2013 | CBI | (G) Inhibitor For Oil Field Applications | (G) Cycloalkylamino Cocoalkyl Alkylamide Acid Salt.
P-13-0819 | 08/07/2013 | 11/05/2013 | CBI | (G) Inhibitor For Oil Field Applications | (G) Cycloalkylamino Cocoalkyl Alkylamide Acid Salt.
P-13-0820 | 08/07/2013 | 11/05/2013 | CBI | (G) Inhibitor For Oil Field Applications | (G) Cycloalkylamino Cocoalkyl Alkylamide Acid Salt.
P-13-0821 | 08/07/2013 | 11/05/2013 | CBI | (G) Inhibitor For Oil Field Applications | (G) Cycloalkylamino Cocoalkyl Alkylamide Acid Salt.
P-13-0822 | 08/07/2013 | 11/05/2013 | CBI | (G) Additive, Open, Non-Dispersive Use | (G) Polyether Modified Acrylic Ester Polymer With Dimethylamino Groups.
P-13-0823 | 08/08/2013 | 11/06/2013 | CBI | (G) Rubber Products | (G) Fluoroelastomer.
P-13-0824 | 08/08/2013 | 11/06/2013 | CBI | (G) Molding Material For Film, Sheet, Plates, Interior, Cases | (G) D-Glucitol, 1,4:3,6-Dianhydro-, Polymer With 1,4-Cycloalkanedimethanol And Diphenyl Carbonate.
P-13-0825 | 08/09/2013 | 11/07/2013 | CBI | (G) Coating Material | (G) Polyurethane.
P-13-0826 | 08/09/2013 | 11/07/2013 | CBI | (S) Thermoplastic Urethanes For Recreation, Industrial, Oil, Gas, And Mining Applications | (S) 2-Oxepanone, Polymer With 1,4-Butanediol, 1,4-Disocyanatobenzene And 2,2-Dimethyl-1,3-Propanediol.
P-13-0827 | 08/12/2013 | 11/10/2013 | CBI | (G) Lubricating Oil Additive | (G) Alkyl Borate Esters And Ethers.
P-13-0830 | 08/12/2013 | 11/10/2013 | Alberdingk Boley Inc | (S) Wood Coatings | (G) Dicarboxylic Acid, Polymer With Cycloalkyl Alkyl-2-Alkennoate, N-(Dimethyl-Oxoalkyl)-2-Alkyenamide, Alkanediol, .Alpha.-Hydro-.Omega.-Hydroxypoly[Oxyalkanediyl], 3-Hydroxy-2-(Hydroxymethyl)-Alkyl Carboxylic Acid, Isocyanato-(Isocyanatoalkyl)-Trimethylcycloalkane And Methylalkenoate, Alkyl Hydroperoxide-Initiated, Compounds with Tralkyllamine Aaa.
P-13-0831 | 08/12/2013 | 11/10/2013 | Alberdingk Boley Inc | (S) Wood Coatings | (G) Dicarboxylic Acid, Polymer With N-(Dialkyl-Oxoalkyl)-Alkennamide, Alkanediol, Alkanediol, Hydroxy-(Hydroxyalkyl)-Alkyl Carboxylic Acid, Isocyanato-(Isocyanatoalkyl)-Trimethylcycloalkane, Methylenebis[Isocyanatocycloalkane] And Alkyl Alkyl-Alkenoate, Compounds with Dialkylalkylamine.
P-13-0832 | 08/12/2013 | 11/10/2013 | Alberdingk Boley Inc | (S) Wood Coatings | (G) Dicarboxylic Acid, Polymer With Cycloalkyl Alkyl-Alkenoate, N-(Dialkyl-Oxoalkyl)-Alkenamide, Alkanediol, Hydroxy—(Hydroxyalkyl)-Alkyl Carboxylic Acid, Methylenebis[Isocyanatocycloalkane] And Alkyll Alkenoate, Alkyl Hydroperoxide-Initiated, Compounds with Dialkylalkylamine.
P-13-0833 | 08/12/2013 | 11/10/2013 | CBI | (G) Assembly Adhesive | (G); Isocyanic Acid, Polymethylenepolyphenylene Ester, Polymer With Unsubstituted Alkylene Diol, Substituted Alkylene Diol And Cyclic Alkylene Ester,(G) Isocyanic Acid, Polymethylenepolyphenylene Ester, Polymer With Substituted Bisphenol And Substituted Diepoxide,(G) Polymer With Aromatic Diacids, Alkylene Diacid, Substituted Alkylene Diol, Unsubstituted Alkylene Diol And Polymethylenepolyphenylene Isocyanate.
P-13-0834 | 08/13/2013 | 11/11/2013 | CBI | (G) Polymeric Colorant | (G) Polyalkoxylated Polycyclic Aromatic Amine Colorant.
P-13-0835 | 08/13/2013 | 11/11/2013 | CBI | (S) Polyurethane Prepolymer | (G) Aliphatic Polyester Polyol.
P-13-0836 | 08/14/2013 | 11/12/2013 | CBI | (G) Ultra violet Catalyst | (G) Alkyl Carbonyl Alkyl Ether Metal Complex.
P-13-0837 | 08/14/2013 | 11/12/2013 | CBI | (G) Component In Drilling Fluids; Component In Resin Coatings | (G) Amine Capped Fatty Acid Dimer Polyamide.
P-13-0839 | 08/14/2013 | 11/12/2013 | CBI | (G) Ingredient Of Pre-Coat Solution | (G) Methanamine, N,N-Dimethyl-, Reaction Products With Alkylamine-Epichlorohydrin Polymer, Chlorides.
P-13-0840 | 08/15/2013 | 11/13/2013 | Colonial Chemical, Inc | (S) Oil Dispersant | (S) D-Glucopyranose, Oligomeric, Decyl Octyl Glycosides, Polymers With Epichlorohydrin And Sorbitan Monooleate.
P-13-0841 | 08/15/2013 | 11/13/2013 | Colonial Chemical, Inc | (S) Intermediate For Surfactant Production; Chemical Intermediate For Sale Into Commerce | (S) (3-Chloro-2-Hydroxypropyl) Dimethyloctadecylammonium Chloride.
P-13-0842 | 08/15/2013 | 11/13/2013 | CBI | (G) Hydraulic Fracturing Chemical | (G) Poly(Oxyalkanediyl), Alpha-Hydro-Omega-Hydroxy-, Mono(Alkyl And Alkenyl)Ethers, Phosphates, Alkali Metal Salt.
P-13-0843 | 08/15/2013 | 11/13/2013 | CBI | (G) Hydraulic Fracturing Chemical | (G) Poly(Oxyalkanediyl), Alpha-Hydro-Omega-Hydroxy-, Mono(Alkyl And Alkenyl)Ethers, Phosphates.
P-13-0846 | 08/19/2013 | 11/17/2013 | Allnex USA Inc | (G) Crosslinker For Coatings | (G) Substituted Alkanoic Acid, Compounds with Substituted Dialkylene-Substituted Carbomonocycle-Substituted Alkanediamine-Substituted Heteromonocycle-Polyalkylene Glycol-Substituted Dialkanol-Substituted Carbomonocycle Reaction Products.
P-13-0847 | 08/19/2013 | 11/17/2013 | Allnex USA Inc | (G) Resin For Waterborne Coatings | (G) Heteropolycycle, Polymer With Substituted Heteromonocycle, Polyalkylene Glycol And Substituted Carbomonocycle.
P-13-0848 | 08/02/2013 | 10/31/2013 | Akzo Nobel Coatings, Inc | (S) To Be Used As A Coating By Body Shops For Vehicles | (G) alkyl polymer with alkyl diol diisocyanate compound with amine salt.
P-13-0849 | 08/19/2013 | 11/17/2013 | CBI | (G) Adhesive For Electrical Industry Use | (G) Modified Polymer Of Ethenylbenzene, Buta-1,3-Diene, And Substituted Methyl Acrylates.
P-13-0851 | 08/26/2013 | 11/24/2013 | CBI | (G) Lubricant Additive | (G) Sulfurized Ester.
P-13-0852 | 08/26/2013 | 11/24/2013 | CBI | (G) One Component Urethane Adhesive | (G) Alkyl Dioic Acid Polymer With Poly-(Oxyalkyl)—Hydro—Hydroxy-, And Aromatic Diisocyanate.
P-13-0853 | 08/26/2013 | 11/24/2013 | CBI | (G) Polymer Additive For Plastic Compounds | (G) Inorganic Acid, Triphenyl Ester, Polymer.
P-13-0854 | 08/27/2013 | 11/25/2013 | CBI | (G) Petroleum Production Chemical | (G) Zinc Carboxylate Salt.
P-13-0856 | 08/27/2013 | 11/25/2013 | CBI | (G) Foam Insulation | (G) Soybean Oil, Polymer With Benzoic Acid, Difunctional Glycols, Glycerol, Phthalic Anhydride,Sorbitol, Terephthalic Acid.
P-13-0858 | 08/27/2013 | 11/25/2013 | CBI | (G) Component For Toner Use | (G) Diester.
P-13-0859 | 08/28/2013 | 11/26/2013 | CBI | (G) Component For Toner Use | (G) Amide Resin.
P-13-0860 | 08/27/2013 | 11/25/2013 | Alberdingk Boley Inc | (S) Good Adhesion Properties For Plastic Coatings | (G) Alkanedicarboxylic Acid, Polymer With Alkanediamine, Alkanediol, Hydroxy-(Hydroxymethyl)-Alkanecarboxylic Acid Andmethylenebis[Isocyanatocycloalkane] Compound with (Dialkylamino)Alkanol.
P-13-0861 | 08/27/2013 | 11/25/2013 | Alberdingk Boley Inc | (S) Good Adhesion Properties For Plastic Coatings | (G) Alkanedicarboxylic Acid, Polymer With Alkanediol, Hydroxy-(Hydroxyalkyl)-Alkane Carboxylic Acid And Methylenebis[4-Isocyanatocycloalkane], Compound with Dialkylamine.
P-13-0862 | 08/28/2013 | 11/26/2013 | CBI | (G) Component Of Polymer Film | (G) Aromatic Dicarboxylic Acid, Polymers With Aliphatic Polyols And Substituted Alkenes.
P-13-0863 | 08/28/2013 | 11/26/2013 | CBI | (G) Used In The Manufacture Of An Article | (G) Fluorinated Aromatic Polyamic Acid Polymer.
P-13-0864 | 08/28/2013 | 11/26/2013 | CBI | (G) Chemical Intermediate | (G) Chloridite.
P-13-0865 | 08/28/2013 | 11/26/2013 | CBI | (G) Coating Additive (Open, Non-Dispersive Use) | (G) Poly(Oxy-1,2-Ethanediyl), -[[[3-[(Carboxyamino)Methyl]-3,5,5-Trimethylcyclohexyl]Amino]Carbonyl]—[[[[3-[(Carboxyamino)Methyl]-3,5,5-Trimethylcyclohexyl]Amino]Carbonyl]Oxy]-, Mixed 4-Alkylcyclohexyl And Lauryl Diesters.
P-13-0866 | 08/28/2013 | 11/26/2013 | Firmenich Inc | (S) Fragrance Ingredient For The Use In Cosmetic Products | (S) Oils, Aquilaria Crassna.
P-13-0867 | 08/28/2013 | 11/26/2013 | CBI | (G) Component Of Polymer Film | (G) Aromatic Dicarboxylic Acid, Polymers With Aliphatic Polyols And Substituted Alkenes.
P-13-0868 | 08/29/2013 | 11/27/2013 | CBI | (G) Functions As An Oil-Soluble Corrosion Inhibitor For Use In Oil And Gas Wells And Pipelines | (G) Tall Oil Fatty Acid Diethylenetriamine Compounds with Substituted Polyethylene Glycol Ether.
P-13-0869 | 08/30/2013 | 11/28/2013 | Mane USA | (S) Fine Fragrance; Fragrance In A Cosmetic Product; Fragrance In A Non-Cosmetic Product | (S) 2-Cyclohexen-1-Ol, 2,6-Dimethyl-4-(2,2,3-Trimethyl-3 Cyclopenten-1-Yl)-.
P-13-0871 | 08/30/2013 | 11/28/2013 | CBI | (G) Rheology Modifier | (G) Polyalkylene Glycol, Polymer With Alkylisocyanate And Alkylphenol.
P-13-0872 | 08/30/2013 | 11/28/2013 | Lamberti USA | (G) Removal Of Hydrogen Sulfide | (G) Alkyl Triazine.
P-13-0874 | 08/30/2013 | 11/28/2013 | CBI | (G) Chemical Intermediate | (G) Substituted Phenol.
P-13-0875 | 08/30/2013 | 11/28/2013 | CBI | (G) Chemical Intermediate | (G) Substituted Phenol.
P-13-0876 | 08/30/2013 | 11/28/2013 | CBI | (G) Chemical Intermediate | (G) Substituted Phenol.
P-13-0877 | 08/30/2013 | 11/28/2013 | CBI | (G) Chemical Intermediate | (G) Substituted Phenol.
P-13-0878 | 09/02/2013 | 12/01/2013 | CBI | (S) Acrylic Resin Used In Ultra violet Curable Inks And Coatings | (G) Reaction Product Of Acrylic Acid And Isocyanate.
P-13-0879 | 09/02/2013 | 12/01/2013 | CBI | (S) Intermediate Reaction Product Used As Input To Further Polymer Reaction | (G) Alkylphenol.
P-13-0880 | 09/03/2013 | 12/02/2013 | CBI | (G) Binder In Primer | (G) Polyurethane Crosslinker.
P-13-0881 | 09/03/2013 | 12/02/2013 | Firmenich Inc | (G) Fragrance Ingredient For The Use In Consumer Products (Cosmetic And Household Use) | (S) Patchouli Essential Oil Produced By Fermentation Of A Sugar Source.
P-13-0882 | 09/04/2013 | 12/03/2013 | CBI | (G) Destructive Use | (G) Alkylated Benzene, Brominated,(G) Alkylated Benzene, Dibrominated.
P-13-0883 | 09/05/2013 | 12/04/2013 | CBI | (G) Corrosion Inhibitor For Down-Hole Well Treatment And Pipelines Used In The Oil And Gas Industry | (G) Fatty Acids, Tall Oil, Reaction Products With Polyamine, 2-Mercaptoacetate.
P-13-0884 | 09/06/2013 | 12/05/2013 | CBI | (S) Dye Intermediate | (G) Substituted Bipyridinium Salt.
P-13-0885 | 09/06/2013 | 12/05/2013 | CBI | (S) Raw Material Used In The Manufacture Of Ultra violet Coatings And Inks | (G) Mono Function Acrylate.
P-13-0886 | 09/06/2013 | 12/05/2013 | CBI | (G) Rubber Products | (G) Hydrofluoroolefin Polymer With 1,1-Difluoroethene.
P-13-0906 | 09/09/2013 | 12/08/2013 | CBI | (S) Pretreatment To Be Applied On A Steel Substrate In Liquid Form, Dried, And Covered By A Paint Layer. Aternatively, To Be Applied On A Galvanized Steel Substrate As A Shipout Passivate And Not Further Painted | (G) Silicate-Silane.
P-13-0907 | 09/09/2013 | 12/08/2013 | CBI | (G) Additive, Open, Non-Dispersive Use | (G) Epoxy Resin, Reaction Products With Alkanolamines.
P-13-0908 | 09/09/2013 | 12/08/2013 | CBI | (G) Additive, Open, Non-Dispersive Use | (G) Polyether Polyester Urethane Phosphate.
P-13-0909 | 09/09/2013 | 12/08/2013 | CBI | (G) Additive, Open, Non-Dispersive Use | (G) Byk-Lp X 22338 (Substances Notified).
P-13-0910 | 09/09/2013 | 12/08/2013 | CBI | (G) Surfactant Or Emulsifier | (G) Glycolipid.
P-13-0911 | 09/09/2013 | 12/08/2013 | CBI | (G) Surfactant Or Emulsifier | (G) Glycolipid.
P-13-0912 | 09/09/2013 | 12/08/2013 | CBI | (G) Surfactant Or Emulsifier | (G) Glycolipid.
P-13-0913 | 09/09/2013 | 12/08/2013 | CBI | (G) Surfactant Or Emulsifier | (G) Glycolipid.
P-13-0915 | 09/11/2013 | 12/10/2013 | CBI | (G) Production Aid For Chemical Processing | (G) Fatty Acids Esters, Reaction Products With Amines.
P-13-0916 | 09/11/2013 | 12/10/2013 | CBI | (S) Reactive Polymer For Use In Adhesive Applications | (G) Polyurethane.
P-13-0917 | 09/11/2013 | 12/10/2013 | Lamberti USA | (G) Limit Scale Build Up | (G) Alkylphosphonate.
P-13-0918 | 09/11/2013 | 12/10/2013 | Henkel Corporation | (S) Chemical Intermediate To Cureable Monomer | (S) Siloxanes And Silicones, Di-Me, Hydrogen-Terminated, Polymers With 2,4,6,8-Tetraethenyl-2,4,6,8-Tetramethylcyclotetrasiloxane..
P-13-0919 | 09/11/2013 | 12/10/2013 | CBI | (G) Industrial Feedstock Chemical | (G) Glycerides, C14-18, C16-18 Unsaturated, From Fermentation.
P-13-0920 | 09/12/2013 | 12/11/2013 | Biochar Now LLC | (S) Filler For Plastics Or Polymers; Soil Amendment | (S) Charcoal Or Biochar.
P-13-0923 | 09/13/2013 | 12/12/2013 | CBI | (S) Reactive Polymer For Use In Paints | (G) Acrylate Polymer.
P-13-0924 | 09/17/2013 | 12/16/2013 | Lambent Technologies | (S) Anti-Wear Additive For Lubricants, Greases, And Metalworking Fluids | (G) Phosphated Mono And Di-Glycerides (Pmdg).
P-13-0925 | 09/17/2013 | 12/16/2013 | CBI | (S) Raw Material In Powder Coatings | (G) Vinyl Ether Urethane Resin.
P-13-0927 | 09/19/2013 | 12/18/2013 | CBI | (G) Coloring Component | (G) N-(Dialkylamino)Alkyl-Dialkylphenyl-Tetrahydrodioxopyrrolopyrrolyl-Benzamide.
P-13-0928 | 09/19/2013 | 12/18/2013 | CBI | (G) Fabrication Of Composite Articles | (G) Unsaturated Polyester Resin In Reactive Solvent.
P-13-0930 | 09/23/2013 | 12/22/2013 | CBI | (G) Reactant In Polymerization Reaction | (G) Substituted Phenol.
P-13-0931 | 09/23/2013 | 12/22/2013 | Henkel Corporation | (S) Polymerizable Component in Adhesive Formulations | (S) 2-Propenoic Acid, 4-Phenoxybutyl Ester.
P-13-0932 | 09/23/2013 | 12/22/2013 | CBI | (G) Adhesive For Open Non-Descriptive Use | (G) Polyester Adduct.
P-13-0933 | 09/24/2013 | 12/23/2013 | CBI | (G) Contained Use In Energy Production | (G) Organic Phosphonate Salt.
P-13-0934 | 09/24/2013 | 12/23/2013 | CBI | (S) Polymer For Soft-Feel Effects Coatings For Film | (G) Polyether Polyurethane Polymer.
P-13-0935 | 09/24/2013 | 12/23/2013 | CBI | (G) Adhesive For Open Non-Descriptive Use | (G) Polyisocyanate Adduct.
P-13-0936 | 09/25/2013 | 12/24/2013 | CBI | (G) Contained Use In Energy Production | (G) Organic Phosphonate Salt.
P-13-0937 | 09/25/2013 | 12/24/2013 | Pennzoil-Quaker State Company | (G) SHELL ONDINA | (S) Distillates (Fischer-Tropsch), Heavy, C18-50-Branched, And Linear.
P-13-0939 | 09/13/2013 | 12/12/2013 | CBI | (S) A Polymerized Component In Novel Adhesive/Sealant Formulations | (G) Silyl Modified Polymer.
P-13-0940 | 09/13/2013 | 12/12/2013 | Cray Valley USA, LLC | (G) Additive For Rubber Goods To Improve Properties | (S) 1,3-Butadiene, Homopolymer, Triethoxysilyl-Terminated.
P-13-0941 | 09/13/2013 | 12/12/2013 | Umicore Precious Metals NJ, LLC | (S) Inhibited Curing Agent | (S) Platinate (2-), Hexachloro-, Hydrogen (1:2), (Oc-6-11)-, Reaction Product With Carbon Monoxideand 2, 4, 6, 8-Tetraethenyl-2, 4, 6, 8-Tetramethylcyclotetrasiloxane.
P-13-0942 | 09/27/2013 | 12/26/2013 | CBI | (G) Coating Material | (G) Copolymer Of Alkyl Methacrylate.
P-13-0943 | 09/30/2013 | 12/29/2013 | Henkel Corporation | (S) Polymerizable Component In Adhesive And Sealant Formulations | (S) Benzene, 1,4-Bis(1-Chloro-1-Methylethyl)-,Reaction Products With Polyisobutylene, Bis[3-[(1-Oxo-2-Propen-1-Yl)Oxy]Propyl]-Teminated.
P-13-0944 | 09/27/2013 | 12/26/2013 | Elantas PDG, Inc | (S) Coating For Electrical Equipment | (S) 5-Isobenzofurancarboxylic Acid, 1,3-Dihydro-1,3-Dioxo-, Polymer With 2-Aminoethanol, 2,2-Dimethyl-1,3-Propanediol, 2,5-Furandione And 3a,4,7,7a-Tetrahydro-1,3-Isobenzofurandione.
P-13-0945 | 09/30/2013 | 12/29/2013 | CBI | (G) Industrial Thermoplastic Additive | (G) Alkoxysilane.
P-13-0946 | 09/30/2013 | 12/29/2013 | CBI | (G) Industrial Thermoplastic Additive | (G) Alkoxysilane.
P-13-0947 | 09/27/2013 | 12/26/2013 | CBI | (G) Open, Non-Dispersive Use | (G) Hydroxy Functional Polyester.
P-13-0948 | 09/30/2013 | 12/29/2013 | Lambent Technologies | (S) Lubricant Additive | (G) Amine Phosphate.
P-13-0949 | 09/30/2013 | 12/29/2013 | CBI | (G) Inks | (G) Nickel, Bisdiphenylimidazolidinetrithione.
P-13-0950 | 09/30/2013 | 12/29/2013 | CBI | (G) Rheology Modifier | (G) Polyalkylene Glycol, Polymer With Alkylisocyanate And Alkylphenol.
P-13-0951 | 09/30/2013 | 12/29/2013 | CBI | (G) A Destructive Use In The Manufacture Of Coating Materials And Fuels | (G) Zinc Carboxylate.

In Table II of this unit, EPA provides the following information (to the extent that such information is not claimed as CBI) on the NOCs received by EPA during this period: The EPA case number assigned to the NOC, the date the NOC was received by EPA, the projected end date for EPA's review of the NOC, and chemical identity.

Table II—63 NOCs Received From 5/23/13 to 9/30/13
Case No. | Received date | Commencement notice end date | Chemical
P-07-0011 | 08/22/2013 | 08/15/2013 | (G) Alkylated Phenol.
P-09-0011 | 08/15/2013 | 07/26/2013 | (G) Unsaturated Urethane Acrylate.
P-09-0356 | 09/19/2013 | 06/19/2013 | (G) Zirconium Lysine Complex.
P-10-0484 | 08/22/2013 | 02/22/2012 | (G) Esterified Polymer Of Styrene, Maleic Anhydride And Ethenylbenzene, Potassium Salt.
P-11-0074 | 09/24/2013 | 09/05/2013 | (G) Glyceryl Polypropylene Glycol Ether Polymer With Isophorone Diisocyanate, Methacrylate Blocked.
P-11-0177 | 08/05/2013 | 07/12/2013 | (S) Dodecanedioic Acid, Polymer With 2,2-Dimethyl-1,3-Propanediol, 2-Ethyl-2-(Hydroxymethyl)-1,3-Propanediol, Hydrazine, 3-Hydroxy-2-(Hydroxymethyl)-2-Methylpropanoic Acid And 1,1'-Methylenebis[4-Isocyanatocyclohexane], Compound. With N,N-Diethylethanamine.
P-11-0270 | 08/28/2013 | 09/01/2011 | (S) Lead Strontium Titanium Zirconium Oxide.
P-11-0560 | 09/16/2013 | 12/15/2012 | (G) Alkylated Diphenyl Ethers.
P-12-0032 | 09/05/2013 | 09/04/2013 | (G) Modified Fluorinated Acrylate.
P-12-0138 | 09/24/2013 | 09/05/2013 | (G) Hydroxy Phenyl Fatty Acids.
P-12-0149 | 08/19/2013 | 07/30/2013 | (G) Brominated Distillation Bottoms.
P-12-0194 | 09/25/2013 | 09/17/2013 | (G) Amines, Bis(Alkyl). 3-[Bis(Alkylalkoxy)Phosphinothioyl]Thio]-2-Alkylalkananoates.
P-12-0342 | 08/02/2013 | 08/01/2013 | (S) 3[Cis-4-(2-Methylpropyl)Cyclohexyl]Propanal*.
P-12-0408 | 08/13/2013 | 08/07/2013 | (G) Alkenedioic Acid Dialkyl Ester, Reaction Products With Alkenoic Acid Alkyl Esters.
P-12-0441 | 08/01/2013 | 01/08/2013 | (G) A Glucopyranose.
P-12-0493 | 09/06/2013 | 04/03/2013 | Null.
P-12-0532 | 08/14/2013 | 07/23/2013 | (G) Tetrasubstituted Dioxadithiane.
P-12-0557 | 08/16/2013 | 07/29/2013 | (S) Tires, Wastes, Pyrolyzed, C8-25 Oil Fraction.
P-12-0558 | 08/16/2013 | 07/29/2013 | (S) Tires, Wastes, Pyrolyzed, C21-33 Oil Fraction.
P-13-0010 | 09/04/2013 | 08/30/2013 | (S) 1,4-Cyclohexanedicarboxylic Acid, 1,4-Dimethyl Ester, Hydrogenolysis Products.
P-13-0033 | 08/23/2013 | 08/22/2013 | (G) Dialkyl Thiophenol, Manufactor Of, By-Products From.
P-13-0034 | 08/23/2013 | 08/22/2013 | (G) Alkylthiophenamine, Manufactor Of, By-Products From.
P-13-0055 | 08/23/2013 | 08/22/2013 | (G) Alkaneamide, Halo-Dialkylthienyl-Alkoxydialkyl-, Manufactor Of, By-Products From.
P-13-0110 | 08/22/2013 | 08/09/2013 | (G) Hydroxyalkyl Methacrylate, Reaction Product With Cyclic Ether.
P-13-0131 | 08/06/2013 | 07/20/2013 | (G) Tertiary Ammonium Compound.
P-13-0140 | 09/25/2013 | 09/18/2013 | Null.
P-13-0173 | 08/12/2013 | 07/16/2013 | (S) 9-Dodecanoic Acid, Methyl Ester*.
P-13-0189 | 08/06/2013 | 07/10/2013 | (G) Depolymerized Waste Plastics.
P-13-0214 | 08/30/2013 | 08/21/2013 | (G) Polymer Reaction Product Of Formaldehyde, Chloromethyl Oxirane, Phenol, 1,3-Isobenzofurandione, With N-(2-Aminoethyl)-1,2-Ethanediamine And Phenol With Tetrahydro-Methano-Indene Glycidyl Ether.
P-13-0218 | 08/05/2013 | 07/28/2013 | (S) Bicyclo[2.2.1]Hept-2-Ene, 5-Ethenyl-, Polymer With Ethene, 5-Ethylidenebicyclo[2.2.1]Hept-2-Ene And 1-Propene.
P-13-0228 | 08/28/2013 | 08/14/2013 | (S) Phosphine, Triphenyl-, Reaction Products With Brominated Isobutylene-Isoprene Polymer.
P-13-0260 | 09/20/2013 | 08/28/2013 | (G) Zinc Bis(Dialkyldithiocarbamate).
P-13-0315 | 09/05/2013 | 08/24/2013 | (G) 1,4-Benzenedicarboxylic Acid, Polymer With Substituted-2,5-Furandione, Carboxylic Acid, Substituted Carbomonocycle Ethoxylated, Substituted Carbomonocycle Propoxylated And Polyol.
P-13-0316 | 09/23/2013 | 09/10/2013 | (G) Copolymer Of Methacryclic Acid Derivatives.
P-13-0320 | 09/16/2013 | 09/05/2013 | (G) Substituted Dicarboxylic Acid, Polymer With Substituted Benzenamine And Substituted Dicarboxylic Acid.
P-13-0330 | 09/30/2013 | 09/23/2013 | (G) Fatty Acids, C18, Dimers, Dialkyl Esters, Hydrogenated, Polymers With Alkanedioic Acid, 1,3-Bis-(Isocyanato-1-Alkyl)Benzene, 3-Hydroxy-2-(Hydroxymethyl)-2-Alkylpropenoic Acid, 1,1'-Methylenebis [Isocyanatocycloalkane], Neopentyl Glycol And Oxepanone Compounds With Trialkyl Amine.
P-13-0337 | 08/15/2013 | 07/31/2013 | (G) Fatty Acid Phthalate Alkyd Polymer.
P-13-0341 | 08/12/2013 | 07/18/2013 | (S) 9-Dodecenoic Acid, Methyl Ester.
P-13-0358 | 08/05/2013 | 07/03/2013 | (G) Vegetable Oil Esters.
P-13-0374 | 09/05/2013 | 09/03/2013 | (G) Substituted Picolinic Acid.
P-13-0378 | 09/05/2013 | 09/03/2013 | (G) Carboxylic Anhydride, Polymer With -Hydro-Hydroxypoly(Oxy-1,2-Diethanediyl), Compound. With 2,3,4,6,7,8,9,10-Octahydropyrimido-[1,2-A]Azepine.
P-13-0380 | 09/12/2013 | 09/10/2013 | (S) 2-Propenoic Acid, 2-Methyl-, 1,1-Dimethylethyl Ester, Polymer With Butyl 2-Propenoate, Ethenylbenzene And 2-Oxiranylmethyl 2-Methyl-2-Propenoate, 2-Propenoate.
P-13-0381 | 08/22/2013 | 08/19/2013 | (G) Pyrrolopyrrol.
P-13-0387 | 08/12/2013 | 08/05/2013 | (G) Amines, Polyethylenepoly-, Reaction Products With Aryl Anhydride And Succinic Monopolyisobutylene Derivs.
P-13-0388 | 08/05/2013 | 07/28/2013 | (G) Hexanedioic Acid, Polymer With 1,2-Butanediol, Diesters With Alkene Reaction Products.
P-13-0390 | 09/25/2013 | 09/24/2013 | (G) Halogenated, Substituted Picolinic Ester.
P-13-0392 | 09/16/2013 | 09/11/2013 | (G) Acrylic Acid Esters Polymer With Polyisocyanate.
P-13-0405 | 08/26/2013 | 08/17/2013 | (S) Carbonic Acid, Dimethyl Ester, Polymer With 1,4-Diisocyanatobenzene, 1,6-Hexanediol And 2,2'-[1,4-Phenylenebis(Oxy)]Bis]Ethanol].
P-13-0406 | 08/07/2013 | 08/05/2013 | (S) 2h-2,4a-Methanonaphthalen-1(5h)-One, Hexahydro-5,5-Dimethyl-2-Propyl-.
P-13-0407 | 09/03/2013 | 08/15/2013 | (G) Triazinylaminostilbene.
P-13-0414 | 08/22/2013 | 07/31/2013 | (S) 1,4-Benzenedicarboxylic Acid, Polymer With [1,1'-Biphenyl]-3,3',4,4'-Tetramine*.
P-13-0415 | 08/27/2013 | 08/16/2013 | (S) Pyridine, 2,2'-Dithiobis.
P-13-0421 | 08/27/2013 | 08/13/2013 | (S) 4,7-Methano-1h-Indene-5-Acetaldehyde, Octahyro-*,(S) 4,7-Methano-1h-Indene-5-Carboxaldehyde, Octahydro-6-Methyl-.
P-13-0447 | 08/30/2013 | 08/21/2013 | (G) Carboxylic Anhydride, Polymer With -Hydro-Hydroxypoly(Oxy-1,2-Ethanediyl), Compound. With N,N'-Bis[3-(Dimethylamino)Propyl]Urea.
P-13-0448 | 09/11/2013 | 09/06/2013 | (G) Propoxylated Glycerol Aliphatic Diacid Acrylated Polymer, Polymer With Aliphatic Diamine.
P-13-0458 | 09/30/2013 | 09/20/2013 | (G) Substituted Carbopolycycle, Polymer With Substituted Carbomonocycle, Alkanoic Acid Ester and Tetrasubstituted Alkane-Blocked.
P-13-0463 | 09/30/2013 | 09/11/2013 | (G) Substituted Polysiloxane.
P-13-0465 | 09/30/2013 | 09/20/2013 | (G) Substituted Benzotriazole.
P-13-0466 | 09/30/2013 | 09/16/2013 | (G) Substituted Polysiloxane.
P-13-0557 | 09/25/2013 | 09/09/2013 | (G) Tall Oil Fatty Acid, Compound With Cyclic Amine.
P-13-0620 | 09/23/2013 | 09/11/2013 | (G) Polymer Of Aliphatic Acids, Aliphatic Diols, Aliphatic Polyols, Oligomeric Silsesquioxane, And Aromatic Acids.
P-13-0629 | 09/12/2013 | 09/09/2013 | (S) 2-Propenoic Acid, 2-Methyl-,Methyl Ester, Polymer With Butyl 2-Propenoate, Ethenylbenzene And 2-Oxiranylmethyl 2-Methyl-2-Propenoate, 2-Propenoate, 1,1-Dimethylpropyl 2-Ethylhexaneperoxoate-Initiated.
P-96-1093 | 09/26/2013 | 09/22/2013 | (G) Polyetherisocyanate Silane Adduct.

If you are interested in information that is not included in these tables, you may contact EPA as described in Unit III. to access additional non-CBI information that may be available.

List of Subjects

Environmental protection, Chemicals, Hazardous substances, Imports, Notice of commencement, Premanufacturer, Reporting and recordkeeping requirements, Test marketing exemptions.

Dated: June 24, 2014.
Chandler Sirmons,
Acting Director, Information Management Division, Office of Pollution Prevention and Toxics.

[FR Doc. 2014-15760 Filed 7-3-14; 8:45 am]

BILLING CODE 6560-50-P